DEPARTMENT OF TRANSPORTATION

Federal Transit Administration

Intent to Prepare an Environmental Impact Statement on Transportation Improvements Within Downtown Dallas, TX

AGENCY: Federal Transit Administration (FTA), Department of Transportation.

ACTION: Notice of intent to prepare an environmental impact statement.

SUMMARY: The Federal Transit Administration (FTA) and Dallas Area Rapid Transit (DART) have issued this notice to advise interested agencies and the public of their intent to prepare an Environmental Impact Statement (EIS) concurrent with a planning Alternatives Analysis (AA) for transportation improvements in the central business district (CBD) of Dallas, Texas. The EIS will be prepared in accordance with the National Environmental Policy Act of 1969 (NEPA), as amended. The EIS is being initiated to alleviate the capacity constraints on the LRT System within the Dallas CBD. The purpose of this Notice of Intent is to alert interested parties regarding the plan to prepare the EIS, to provide information on the purpose and need of the proposed transit project, to invite participation in the EIS process, including comments on the scope of the EIS proposed in this notice, and to announce that public scoping meetings will be conducted.

DATES: Comment Due Date: Written comments on the scope of the alternatives and issues to be considered should be sent to Ernie G. Martinez, Project Manager by June 1, 2007. See ADDRESSES below.

Scoping Meetings: Two public scoping meetings will be held at the DART Headquarters, located at 1401 Pacific Avenue, Dallas, Texas 75266 in the Board Room on:

—May 2, 2007 at 12 noon and on

—May 3, 2007 at 6:30 p.m.

Scoping material will be available at the meetings, on the project Web site at http://www.dart.org/about/expansion/dallascbd.asp or by contacting Mr. Martinez, DART Project Manager, as indicated under ADDRESSES below.

The meetings will be accessible to persons with disabilities. Individuals requiring special assistance to participate fully, such as a translator or sign-language interpreter, should notify DART in advance as indicated under ADDRESSES below.

Interagency Coordination Meeting: DART will conduct an interagency coordination meeting with Federal, State, and local agencies with an interest in the project. Invitations announcing the coordination meeting and inviting the agencies to participate will be sent.

ADDRESSES: Written comments on the project scope, including the project's purpose and need, the range of alternatives to be considered, and the environmental and community impact issues should be sent to: Ernie G. Martinez, Project Manager, DART Planning, P.O. Box 660163, 1401 Pacific Avenue, Dallas, Texas 75266-7213. Telephone (214) 749-3201, Fax (214) 749-3844, E-mail: emartine@dart.org.

FOR FURTHER INFORMATION CONTACT: Mr. John Sweek, Community Planner, Federal Transit Administration, Region VI; Telephone (817) 978-0550. E-mail: john.sweek@dot.gov.

SUPPLEMENTARY INFORMATION:

I. Scoping

The FTA and DART invite interested individuals, organizations, and Federal, State, and local agencies to participate in refining purpose and need for the project, the alternatives, including: modes, alignments and station locations, and the environmental and community impacts to be assessed. Scoping comments should identify significant social, economic, or environmental issues related to the proposed project. Scoping comments may be made at the scoping meetings or in writing no later than June 1, 2007 (see DATES and ADDRESSES above). Scoping comments may also suggest alternatives that are less costly or more responsive to environmental issues, while still satisfying the project's purpose and need. Scoping comments should focus on the issues and alternatives for analysis, and not on a preference for a particular alternative. Additional information on the EIS process, the project's purpose and need, and the alternatives and impact issues to be addressed will be included in the “Scoping Information Report”. Copies of the scoping information document, as well as the Public Involvement and Agency Coordination Plan, will be available from DART at the scoping meetings, at DART Headquarters and on the DART Web site (http://www.dart.org/about/expansion/dallascbd.asp), thereafter (see DATES and ADDRESSES above).

II. Description of the Study Area

The area that is historically considered to be Downtown Dallas has primarily been an employment center. This area is bounded by a freeway loop formed by U.S. 75 and IH 45 to the east, IH 30 to the south, IH 35E to the west and Woodall Rogers Freeway to the north. This is changing. Downtown Dallas is expanding, and our Study Area boundaries are laid out to reflect that. They consist of Industrial Blvd—from IH 30 north to Oak Lawn; Oak Lawn—from Industrial east to McKinnon; McKinnon—from Oak Lawn south to Cedar Springs/Turtle Creek; Cedar Springs/Turtle Creek—from McKinnon northeast to Hall; Hall—from Cedar Springs/Turtle Creek south to Gaston; Gaston—from Hall west to Malcolm X; Malcolm X—from Gaston south to IH 30; IH 30—from Malcolm X west to Central; Central—from IH 30 south to Gano; Gano—from Central west to Wall; Wall—from Gano south to McKee; McKee—from Wall west to Austin; Austin from McKee north to IH 30; IH 30—from Austin west to Industrial. Also, the traditional core has been transitioning into a more mixed-use environment as new residential, retail and entertainment developments are completed. Recent additions to the Convention Center, planned improvements to the Farmers Market, the expanding Arts District, the first downtown grocery store in the modern day era, and the new American Airlines Center are changing the makeup of downtown Dallas.

On October 24, 2006, the DART Board approved the 2030 Transit System Plan. While the Plan addresses all modes operated by DART, the rail element will influence needs in the CBD and must be considered as part of the CBD AA/DEIS. Rail recommendations include approximately 43 miles of additional rail service, of which two (2) LRT lines would be routed through the CBD. Information on this plan is on http://www.dart.org.

III. Project Purpose and Need

The proposed action is intended to achieve the following goals:

• Increase transit capacity within Downtown Dallas;

• Improve regional mobility;

• Improve LRT operational flexibility, service reliability and efficiency through the CBD;

• Serve new CBD markets by increasing transit access and circulation between major activity centers; and

• Maximize potential for transit oriented and economic development.

The specific needs to be addressed by the proposed action include:

• Relieve CBD LRT capacity constraint;

• Serve inner-city infill development and general system growth demands;

• Serve new CBD transit markets;

• Enhance CBD development potential;

As part of the scoping and public and agency involvement process, these goals and objectives may be refined and expanded.

IV. Alternatives

The initial alternatives presented below correspond to Downtown transportation problems and to the above-described project purpose and need. The alternatives are grouped into the traditional and Federal process-required categories, including: No-Action, Baseline/Transportation Systems Management (TSM) and Build Alternatives.

Consideration of a second LRT alignment began when the City of Dallas and DART entered into the Master Interlocal Agreement (ILA) in 1992. As noted earlier, the ILA requires DART to supplement the current transit mall when specified operating and/or ridership measures are met. It is anticipated that additional build corridors and alignment options will be identified during scoping.

No Action

This alternative will consist of existing and committed projects included in the MPO long-range plan. This alternative is intended to serve as the alternative against which build alternatives are compared. Examples of committed projects are: the Super LRV fleet; signal prioritization along the existing mall; Bryan/Hawkins Junction improvements; trolley line extension from Ross Avenue to the existing mall; and, additional CBD bus service.

Baseline/Transportation System Management (TSM) Alternative

This alternative will consist of the No Action Alternative “committed projects”, as well as additional relatively low-cost improvements. These improvements would be combined to alleviate LRT congestion without making a fixed guideway transit investment. This alternative will serve as the baseline alternative for New Starts evaluation purposes. Elements of this alternative would include, but not be limited to: Fully low-floor vehicle fleet; improved signals/train control; adjusted headways on selected routes; additional junction improvements; improved bus/LRT connections; LRT shuttles with forced transfers outside the CBD; and additional CBD bus service that would likely include bus feeder service, Bus Rapid Transit (BRT) service that would serve as a bus bridge between radial LRT lines terminating at the CBD boundary, and combined bus feeder/circulator service.

Build Alternatives

The Build Alternative proposed at this early stage is LRT in a broad corridor recommended by a recent City of Dallas Downtown transportation study. The Comprehensive Transportation Plan for the Central Business District, (June 2005), which evaluated alignment options, resulted in the recommendation of a corridor for a second LRT alignment through the CBD that is generally bounded by Woodall Rodgers Freeway, Field Street, Commerce Street, Young Street and Lamar Street. Within this broad corridor, there is a range of possible alignment options. A specific recommendation was made in the City study for a tunnel alignment between Ross and Commerce Avenues to avoid an at-grade crossing of the existing LRT mall and short north-south blocks.

While alignment options outside of this broad corridor have been identified and studied over the past several years, this broad corridor will be the starting point for the scoping process. Other previously studied alternatives and new alternatives may be added to the list of initial alternatives during the scoping process.

The Build Alternative will include a new LRT alignment through downtown. Possible alignment variations include:

All surface with at-grade crossing of existing LRT mall;

Combination surface/subway with or without underground stations;

All subway with underground stations; and a

Modern streetcar system. A build alternative without a modern streetcar system will also be tested to understand the relationship between the two modes.

V. Probable Effects

The FTA and DART will evaluate all significant environmental, social, and economic impacts of the alternatives analyzed in the EIS. Impact areas to be addressed include: economic development; land acquisition, displacements, and relocation of existing uses; cultural resource impacts including impacts on historical and archaeological resources and parklands/recreational areas; noise and vibration; safety and security; utilities; traffic and transportation impacts.

Potential impacts will be addressed for the long-term operation of each alternative and the short-term construction period. Measures to avoid, minimize, and mitigate all adverse impacts will be identified, evaluated, and adopted as appropriate.

VI. FTA Procedures

In accordance with FTA policy, all Federal environmental laws, regulations, and executive orders affecting project development, including but not limited to the regulations of the Council on Environmental Quality implementing NEPA (40 CFR parts 1500-1508, the joint FHWA/FTA environmental regulations (23 CFR part 771), the project-level conformity requirements of the Clean Air Act, Section 404 of the Clean Water Act, the National Historic Preservation Act, the Endangered Species Act, and Section 4(f) of the Department of Transportation Act (49 U.S.C. 303) will be addressed to the maximum extent practicable during the NEPA process. Following the scoping process, a Draft EIS will be prepared and made available for public review and comment. One or more public hearings will be held during the Draft EIS public comment period. On the basis of the Draft EIS and comments received, the project will be revised or further refined as necessary and the Final EIS prepared.

Issued on: April 5, 2007.
Robert C. Patrick,
Regional Administrator.

[FR Doc. E7-6938 Filed 4-11-07; 8:45 am]

BILLING CODE 4910-57-P